LEGAL SERVICES CORPORATION

Development of Strategic Plan 2011-2015

AGENCY: Legal Services Corporation.

ACTION: Development of Strategic Plan request for comments.

SUMMARY: LSC is embarking on the process to develop a Strategic Plan for the years 2011-2015. Toward that end, LSC is soliciting suggestions for updating, revising and modifying LSC's Strategic Directions.

DATES: Written comments must be received on or before March 15, 2011.

ADDRESSES: Written comments may be submitted by mail, fax or e-mail to Mattie Cohan, Senior Assistant General Counsel, LSC, at 3333 K Street, NW., Washington, DC 20007, 202-337-6519 (fax), or mcohan@lsc.gov.

FOR FURTHER INFORMATION CONTACT: Mattie Cohan, Senior Assistant General Counsel, Legal Services Corporation, 3333 K Street, NW., Washington, DC 20007, 202-295-1624 (phone), 202-337-6519 (fax), or mcohan@lsc.gov.

SUPPLEMENTARY INFORMATION: In 2000, the Legal Services Corporation (LSC) Board of Directors first adopted a Strategic Directions document for the period of 2000-2005. In 2006, the LSC Board adopted Strategic Directions 2006-2010. The expiring LSC Strategic Directions 2006-2010 document is available at the LSC Electronic Public Reading Room on the LSC Web site at: http://www.lsc.gov/pdfs/LSCStrategicDirections20062010.pdf.

LSC is now undertaking an effort to develop a new Strategic Plan for the years 2011-2015. Toward that end, LSC is soliciting suggestions for updating, revising and modifying LSC's Strategic Directions. In particular, LSC is actively seeking input from the public and all interested stakeholders, who are asked to address:

• To what extent are the goals, objectives and strategies set forth in the Strategic Directions 2006-2010 document still appropriate? To what extent are they obsolete?

• Beyond those identified in response to the question above, what are realistic yet meaningful goals?

• How may LSC most effectively achieve its identified goals? What revised objectives and/or strategies are appropriate for LSC to consider?

In addition, LSC notes that the Strategic Directions adopted in 2000 and 2006 were called “Strategic Directions” rather than a “strategic plan” because they did not set forth significant performance measures. The Board is interested in considering the development of appropriate performance measures by which the Corporation's progress in achieving its strategic goals and objectives may be determined. To that end, comments are requested to address suggestions regarding whether and how LSC may incorporate performance measures into its strategic planning efforts.

In addition, Among other sources, LSC is considering the guidance provided by the Office of Management and Budget as set forth in: http://www.whitehouse.gov/sites/default/files/omb/assets/memoranda_2010/m10-24.pdf and http://www.whitehouse.gov/omb/circulars_a11_current_year_a11_toc/. Although LSC is not subject to the Government Performance and Results Act (GPRA), LSC has looked to GPRA for guidance. LSC welcomes comments on GPRA as a model for LSC as well as suggestions for other strategic planning models and guidance that LSC should consider. Finally, LSC also welcomes comments on whether there are different or additional questions that LSC should consider in its work on strategic directions for 2011-2015. Comments should be submitted as set forth above.

This request for comments is intended for use as LSC embarks on its planning process. LSC anticipates publishing a draft Strategic Plan for additional public comment.

Mattie Cohan,
Senior Assistant General Counsel.

[FR Doc. 2010-32320 Filed 12-22-10; 8:45 am]

BILLING CODE P